DEPARTMENT OF THE INTERIOR

National Park Service

[NPS-WASO-NRNHL-DTS#-39674; PPWOCRADI0, PCU00RP14.R50000]

National Register of Historic Places; Notification of Pending Nominations and Related Actions

AGENCY: National Park Service, Interior.

ACTION: Notice.

SUMMARY: The National Park Service is soliciting electronic comments on the significance of properties nominated before March 1, 2025, for listing or related actions in the National Register of Historic Places.

DATES: Comments should be submitted electronically by April 1, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before March 1, 2025. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

CALIFORNIA

San Bernardino County

Alf's Blacksmith Shop, 33652-33678 1st Street, Daggett, SG100011630

Sonoma County

Fisk's Mill Landing Historical and Archaeological District, (Northern California Doghole Ports Maritime Cultural Landscape MPS), Address Restricted, Jenner vicinity, MP100011620

Ventura County

Washington Elementary School, 96 MacMillan Avenue, Ventura, SG100011623

COLORADO

Sedgwick County

Gibello's Caves, 20000 Co Rd. 28, Julesburg vicinity, SG100011624

FLORIDA

Palm Beach County

Ann Norton House and Sculpture Gardens (Boundary Increase), 253 Barcelona Rd., West Palm Beach, BC100011643.

IOWA

Iowa County

East Junior High School, 1520 Morningside Avenue, Sioux City, SG100011619

KANSAS

Miami County

Ursuline Academy—Auditorium, 905 E Wea Street, Paola, SG100011629

Fowler and Baehr Buildings

118 and 120 South Silver Street, Paola, SG100011631

Shawnee County

Todd, Lucinda and Alvin, House, (African American Resources in Topeka, Shawnee County, Kansas MPS), 1007 SW Jewell Avenue, Topeka, MP100011628

MICHIGAN

Charlevoix County

Charlevoix Central Historic District, Roughly bounded by State Street to the west, East Dixon Avenue to the north, Antrim Street to the south, and the western boundary of Round Lake to the east, Charlevoix, SG100011634

Genesee County

Marian Hall, 529 Martin Luther King Avenue, Flint, SG100011635

Van Buren County

Nichols Hotel, 201 Center Street, South Haven, SG100011633

Wayne County

Saint Mary of Redford Catholic Church, 16098 Grand Avenue, Detroit, SG100011641

MISSOURI

Cape Girardeau County

Turner Hall, (Cape Girardeau, Missouri MPS), 300 Broadway Street, Cape Girardeau, MP100011649

Jackson County

East Plaza Apartments Historic District, (Working-Class and Middle-Income Apartment Buildings in Kansas City, Missouri MPS), 205-323 Emanuel Cleaver II Boulevard, 127-237 East 46th Street, 4618 Warwick Boulevard, Kansas City, MP100011650

Laclede County

Missouri Farmers Association—Producers Creamery Company Dairy Plant, 1201 Ice Cream Way, Lebanon, SG100011654

St. Charles County

Westhoff Grain and Mercantile Company, 108 S Main Street, O'Fallon, SG100011651

St. Louis INDEPENDENT CITY

Kingshighway Hills Commercial District (Boundary Increase), 4247-49, 4251-4255, and S 4301-4305 S Kingshighway, St. Louis, BC100011653

OHIO

Mahoning County

West Federal Street Young Men's Christian Association, (Twentieth Century African American Civil Rights-related Resources in Iowa MPS), 962 Martin Luther King Blvd., Youngstown, MP100011621

PENNSYLVANIA

Cambria County

First Cambria AME Zion Church, (African American Churches and Cemeteries in Pennsylvania, c. 1644-c. 1970 MPS), 409-411 Haynes Street, Johnstown, MP100011622

PUERTO RICO

Adjuntas Municipality

Ayuntamiento de Adjuntas, Rius Rivera Street, San Joaquin Corner, Adjustas, SG100011645

TENNESSEE

Hamilton County

Pleasant Garden Cemetery, 306 Rowe Road, Chattanooga, SG100011639

Knox County

Barber, George F., Cottage, 1701 E Glenwood Ave., Knoxville, SG100011618

VIRGINIA

Charlottesville INDEPENDENT CITY

James Minor House, 1817 Fendall Avenue, Charlottesville, SG100011625

Gloucester County

Union Zion Baptist Church and Pole Bridge Cemetery, 6145 Ware Neck Road and Pole Bridge Lane, Gloucester, SG100011648

Madison County

Criglersville Elementary School, 1120 Old Blue Ridge Turnpike, Criglersville, SG100011627

Virginia Beach INDEPENDENT CITY

Lynnhaven House (Boundary Decrease), 4405 Wishart Road, Virginia Beach (Independent City), BC100011638

WISCONSIN

Ashland County

PRETORIA (schooner-barge) Shipwreck Site (Boundary Increase), (Great Lakes Shipwreck Sites of Wisconsin MPS), Address Restricted, Bayfield vicinity, BC100011647

Door County

Little Harbor Launch Wreck, (Great Lakes Shipwreck Sites of Wisconsin MPS), Address Restricted, Sevastopol vicinity, MP100011640

A request for removal has been made for the following resource(s):

FLORIDA

Lake County

Lee School, 207 N Lee St., Leesburg, OT95000024

Additional documentation has been received for the following resource(s):

FLORIDA

Palm Beach County

Ann Norton House and Sculpture Gardens (Additional Documentation), 253 Barcelona Rd., West Palm Beach, AD90001106

MISSOURI

St. Louis INDEPENDENT CITY

Kingshighway Hills Commercial District (Additional Documentation), 3701-3835 South Kingshighway Blvd., St. Louis, AD100005349

PENNSYLVANIA

Clearfield County

Old Town Historic District (Additional Documentation), Irregular pattern along Front St., Clearfield, AD79002212

VIRGINIA

Virginia Beach INDEPENDENT CITY

Lynnhaven House (Additional Documentation), 4405 Wishart Road, Virginia Beach (Independent City), AD69000363

Keeling House (Additional Documentation), 3157 Adam Keeling Rd., Virginia Beach (Independent City), AD73002297

WISCONSIN

Ashland County

PRETORIA (schooner-barge) Shipwreck Site (Additional Documentation), (Great Lakes Shipwreck Sites of Wisconsin MPS), Address Restricted, Bayfield vicinity, AD94000835

Authority: Section 60.13 of 36 CFR part 60.

Sherry A. Frear,
Chief, National Register of Historic Places/National Historic Landmarks Program.

[FR Doc. 2025-04258 Filed 3-14-25; 8:45 am]

BILLING CODE 4312-52-P